DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Vector Systems for the Generation of Adeno-Associated Virus Particles

JA Chiorini, R Kotin, B Safer, E Urcelay (NHLBI)

Serial No. 08/157,740 filed 24 Nov 1993, now US Patent 5,693,531 issued 02 Dec 1997

Licensing Contact: Susan S. Rucker; 301/496-7056 ext. 245; e-mail: ruckers@od.nih.gov

This patent relates to a system for the production of recombinant AAV vectors for gene therapy. More particularly, the patent relates to an AAV vector system which utilizes an inducible system for the production of high titer virus. The first vector contains a 5′ and 3′ AAV ITR flanking the heterologous gene of interest to be delivered. The second vector contains an inducible origin of replication and the AAV rep and cap proteins. This second vector provides a means for increasing the amount of AAV structural proteins available for the production of infectious AAV particles. In the presence of the inducing agent these two vector are able to produce high titer of infectious AAV particles which can be used to deliver the heterologous gene of interest.

This work has been published, in part, at Chiorini, JA, et al. “High-efficiency transfer of the T cell co-stimulatory molecule B72 to lymphoid cells using high-titer recombinant adeno-associated virus vectors” Hum Gene Ther 6(12):1531-41 (Dec 1995).

Immunization from an Immunized Allogeneic Bone Marrow Donor

Larry W. Kwak, Dan L. Longo (NCI)

Serial No. 08/153,464 filed 17 Nov 1993; U.S. Patent 5,861,158 issued 19 Jan 1999

Licensing Contact: Elaine White; 301/496-7056 ext. 282; e-mail: gesee@od.nih.gov

A novel method has been developed for transferring immunity against specific types of tumors from a bone marrow donor to a recipient. Although there have been major advances in studying the biology of B-cell and leukemia cancers in recent years, progress in the treatment of such diseases has been modest since the treatment of alkylating agents more than 30 years ago. An approach using intensive, high-dose chemoradiotherapy combined with bone marrow transplantation (to help improve tolerance of bone marrow cells to intense therapy) is presently being explored by several groups of investigators. However, although this type of therapy has improved initial responsive rates, the vast majority of patients (90 percent) eventually relapse.

The current invention provides a method of improving a transplantation of hematopoietic cells from a donor to a recipient to treat a hematopoietic cell tumor in the recipient comprising immunizing the donor's hematopoietic cells with an antigen specific for the recipient's hematopoietic cell tumor, and transplanting the donor's immunized hematopoietic cells to the recipient. This method offers a novel means for conferring immunity against, and thereby treating, B-cell and leukemia cancers as well as other types of cancers.

A Murine Melanoma Transduced with CCR7 as a Model of Enhanced Metastasis to Lymph Nodes

Sam T. Hwang (NCI)

DHHS Reference No. E-104-01/0

Licensing Contact: Elaine White; 301/496-7056 ext. 282; e-mail: gesee@od.nih.gov

The current invention embodies a B16 murine melanoma cell line which has been stably transduced with the gene for CCR7, a gene which promotes the migration of activated dendritic cells into lymphatic vessels. This transduced cell line has been shown to metastasize much more efficiently to lymph nodes than non-transduced cells. While the spontaneous rate of metastasis to lymph nodes is quite low for non-transduced B16 cells, the inventor has found 200—1400 times more melanoma-specific mRNA in the lymph nodes of mice which have been injected with the CCR7-expressing melanoma cells. As melanoma in humans first metastasizes by invading the lymphatics and migrating to the draining lymph nodes, the transduced B16 cell line embodied in this invention appears to represent a valuable model system for identification and testing of agents to be used in prevention or reduction of melanoma metastasis via a lymphatic route. The cell line is available for licensing via Biological Materials License Agreements.

Dated: April 3, 2001.
Jack Spiegel,
Director, Division of Technology Development and Transfer, Office of Technology Transfer, National Institutes of Health.

[FR Doc. 01-9013 Filed 4-11-01; 8:45 am]

BILLING CODE 4140-01-P